DEPARTMENT OF THE INTERIOR

National Park Service

[2253-665]

Notice of Inventory Completion: Maxwell Museum of Anthropology, University of New Mexico, Albuquerque, NM

AGENCY: National Park Service, Interior.

ACTION: Notice.

SUMMARY: The Maxwell Museum of Anthropology, University of New Mexico has completed an inventory of human remains, in consultation with the appropriate Indian tribe, and has determined that there is a cultural affiliation between the human remains and a present-day Indian tribe. Representatives of any Indian tribe that believes itself to be culturally affiliated with the human remains may contact the Maxwell Museum of Anthropology, University of New Mexico. Repatriation of the human remains to the Indian tribe stated below may occur if no additional claimants come forward.

DATES: Representatives of any Indian tribe that believes it has a cultural affiliation with the human remains should contact the Maxwell Museum of Anthropology, University of New Mexico at the address below by October 13, 2011.

ADDRESSES: Heather Edgar, Curator of Human Osteology, Maxwell Museum of Anthropology, University of New Mexico, MSC01 1050, 1 University of New Mexico, Albuquerque, NM 87131, telephone (505) 277-4415.

SUPPLEMENTARY INFORMATION: Notice is here given in accordance with the Native American Graves Protection and Repatriation Act (NAGPRA), 25 U.S.C. 3003, of the completion of an inventory of human remains in the possession of Maxwell Museum of Anthropology, University of New Mexico, Albuquerque, NM. The human remains were removed from Sandoval County, NM.

This notice is published as part of the National Park Service's administrative responsibilities under NAGPRA, 25 U.S.C. 3003(d)(3). The determinations in this notice are the sole responsibility of the museum, institution, or Federal agency that has control of the Native American human remains. The National Park Service is not responsible for the determinations in this notice.

Consultation

A detailed assessment of the human remains was made by Maxwell Museum of Anthropology, University of New Mexico professional staff in consultation with representatives of the Pueblo of Jemez, New Mexico.

History and Description of the Remains

Between the 1930s and 1940s, human remains representing a minimum of 189 individuals were removed from the Unshagi site (LA 123), Sandoval County, NM, during excavations by University of New Mexico field schools. The human remains were accessioned by the museum between 1973 and 1975. No known individuals were identified. No associated funerary objects are present.

Between the 1930s and 1940s, human remains representing a minimum of 78 individuals were removed from the Guisewa site (LA 679), Sandoval County, NM, during excavations by University of New Mexico field schools. The human remains were accessioned by the museum between 1973 and 1975. No known individuals were identified. No associated funerary objects are present.

Between the 1930s and 1940s, human remains representing a minimum of 65 individuals were removed from the Nonishagi site (LA 541), Sandoval County, NM, during excavations by University of New Mexico field schools. The human remains were accessioned by the museum between 1973 and 1975. No known individuals were identified. No associated funerary objects are present.

At unknown dates, human remains representing a minimum of 84 individuals were removed from various sites located in the area of “Jemez.” No known individuals were identified. No associated funerary objects are present.

The human remains are identified as ancestral Jemez because they came from Puebloan sites of the upper Jemez River drainage. Populations that inhabited these sites are linked by Native oral tradition, Euro-American records, and archeological evidence to members of the present-day Pueblo of Jemez, New Mexico.

Determinations Made by the Maxwell Museum of Anthropology, University of New Mexico

Officials of the Maxwell Museum of Anthropology, University of New Mexico have determined that:

• Pursuant to 25 U.S.C. 3001(9), the human remains described above represent the physical remains of at least 416 individuals of Native American ancestry.

• Pursuant to 25 U.S.C. 3001(2), there is a relationship of shared group identity that can be reasonably traced between the Native American human remains and the Pueblo of Jemez, New Mexico.

Additional Requestors and Disposition

Representatives of any other Indian tribe that believes itself to be culturally affiliated with the human remains should contact Heather Edgar, Curator of Human Osteology, Maxwell Museum of Anthropology, University of New Mexico, MSC01 1050, 1 University of New Mexico, Albuquerque, NM 87131, telephone (505) 277-4415, before October 13, 2011. Repatriation of the human remains to the Pueblo of Jemez, New Mexico, may proceed after that date if no additional claimants come forward.

The Maxwell Museum of Anthropology, University of New Mexico is responsible for notifying the Pueblo of Jemez, New Mexico, that this notice has been published.

Dated: September 7, 2011.
Sherry Hutt,
Manager, National NAGPRA Program.

[FR Doc. 2011-23290 Filed 9-12-11; 8:45 am]

BILLING CODE 4312-50-P